DEPARTMENT OF THE INTERIOR

National Park Service

Lake Meredith National Recreation Area and Alibates Flint Quarries National Monument, Fritch, TX

AGENCY: National Park Service, Interior.

ACTION: Notice of availability of a Plan of Operations, an Environmental Assessment, and a Statement of Findings for a 30-day public review at Lake Meredith National Recreation Area and Alibates Flint Quarries National Monument, Potter County, Texas.

SUMMARY: The National Park Service (NPS), in accordance with section 9.52(b) of Title 36 of the Code of Federal Regulations and Executive Order 11988, Floodplain Management, has received from Luxor Oil and Gas, Inc. a Plan of Operations and an Environmental Assessment for the continued operations of two natural gas wells at Alibates Flint Quarries National Monument and the exploratory drilling of a new natural gas well at Lake Meredith National Recreation Area. Additionally, the NPS has prepared a Statement of Findings for the siting of the new exploratory well above the 100-year flood event and below the 500-year flood event to protect cultural resources.

DATES: The Plan of Operations, an Environmental Assessment, and the Statement of Findings are available for public review and comment for a period of 30-days from the publication date of this notice in the Federal Register.

ADDRESSES: The Plan of Operations, an Environmental Assessment, and the Statement of Findings are available for public review and comment in the Office of the Superintendent, Lake Meredith National Recreation Area, 419 E. Broadway, Fritch, Texas. Copies are available, for a duplication fee, from the Superintendent, Lake Meredith National Recreation Area, P.O. Box 1460, Fritch, TX 79306-1460.

FOR FURTHER INFORMATION CONTACT: Paul Eubank, Environmental Protection Specialist, Lake Meredith National Recreation Area and Alibates Flint Quarries National Monument, P.O. Box 1460, Fritch, TX 79036, Telephone: 806-865-3874.

SUPPLEMENTARY INFORMATION: If you wish to comment, you may submit comments by mailing them to the post office address provided above, or you may hand-deliver comments to the park at the street address provided above. Our practice is to make comments, including names and home addresses of responders, available for public review during regular business hours. Individual respondents may request that we withhold their home address from the decision-making record, which we will honor to the extent allowable by law. There also may be circumstances in which we would withhold from the decision-making record a respondent's identity, as allowable by law. If you wish us to withhold your name and/or address, you must state this prominently at the beginning of your comment. However, we will not consider anonymous comments. We will make all submissions from organizations or businesses, and from individuals identifying themselves as representatives or officials of organizations or businesses, available for public inspection in their entirety.

Dated: November 14, 2001.
Jim Rancier,
Acting Superintendent, Lake Meredith National Recreation Area and Alibates, Flint Quarries National Monument.

[FR Doc. 01-29090 Filed 11-20-01; 8:45 am]

BILLING CODE 4310-70-P